DEPARTMENT OF ENERGY

Federal Energy Regulatory Commission

18 CFR Part 358

[Docket No. RM07-1-000]

Standards of Conduct for Transmission Providers; Notice of Extension of Time

February 28, 2007.

AGENCY: Federal Energy Regulatory Commission; DOE.

ACTION: Notice of Proposed Rulemaking; extension of comment period.

SUMMARY: On February 28, 2007, the Commission issued a notice of proposed rulemaking proposing permanent regulations regarding the standards of conduct consistent with the decision of the United States Court of Appeals of the District of Columbia in National Fuel Gas Supply Corporation v. FERC, 468 F.3d 831 (2006), regarding natural gas pipelines. The Commission is extending the comment period on the Notice of Proposed Rulemaking at the request of the American Gas Association, the American Public Power Association, the Edison Electric Institute, the Electric Power Supply Association, the Interstate Natural Gas Association of America, the Large Public Power Council and the Natural Rural Electric Cooperative Association.

DATES: Comments must be filed on or before March 30, 2007. Reply comments must be filed on or before April 30, 2007.

FOR FURTHER INFORMATION CONTACT:

Eric Ciccoretti, Office of Enforcement, Federal Energy Regulatory Commission, 888 First Street, NE., Washington, DC 20426. Telephone: (202) 502-8493, E-mail: eric.ciccoretti@ferc.gov.

Deme Anas, Office of Enforcement, Federal Energy Regulatory Commission, 888 First Street, NE., Washington, DC 20426. Telephone: (202) 502-8178, E-mail: demetra.anas@ferc.gov.

Stuart Fischer, Office of Enforcement, Federal Energy Regulatory Commission, 888 First Street, NE., Washington, DC 20426. Telephone: (202) 502-8517, E-mail: stuart.fischer@ferc.gov.

SUPPLEMENTARY INFORMATION:

Notice Extending Comment and Reply Comment Period

On February 27, 2007, the American Gas Association, the American Public Power Association, the Edison Electric Institute, the Electric Power Supply Association, the Interstate Natural Gas Association of America, the Large Public Power Council, and the National Rural Electric Cooperative Association, filed jointly for an extension of time to file comments and reply comments in response to the Commission's Notice of Proposed Rulemaking issued January 18, 2007 in the above-captioned proceeding. Standards of Conduct for Transmission Providers, 118 FERC ¶ 61,031, 72 FR 3958 (Jan. 29, 2007), FERC Stats. & Regs. ¶ 32,611 (2007).

Upon consideration, the date for filing comments in this proceeding is extended to and including March 30, 2007 and the date for filing reply comments is extended to and including April 30, 2007.

Magalie R. Salas,
Secretary.

[FR Doc. E7-4117 Filed 3-7-07; 8:45 am]

BILLING CODE 6717-01-P